DEPARTMENT OF THE INTERIOR

National Park Service

Draft General Management Plan and Environmental Impact Statement for Pipestone National Monument, Minnesota; Notice of Availability

AGENCY: National Park Service, Department of the Interior.

ACTION: Notice.

SUMMARY: Pursuant to section 102(2)(C) of the National Environmental Policy Act of 1969, the National Park Service announces the availability of the draft General Management Plan and Environmental Impact Statement (GMP/EIS) for Pipestone National Monument.

DATES: The GMP/EIS will remain available for public review for 60 days following the publishing of the notice of availability in the Federal Register by the Environmental Protection Agency. Public meetings will be held in the cities of Pierre and Yankton, South Dakota, and Marshall and Pipestone, Minnesota. Meeting places and times will be announced through the local media and on the park Web site at: http://www.nps.gov.gov/pipe.

ADDRESSES: Copies of the GMP/EIS are available by request by writing to the Superintendent at Pipestone National Monument, 36 Reservation Avenue, Pipestone, MN 56164. The document is also available to be reviewed in person at the park. Finally, the document can be found at the following Web site: http://parkplanning.nps.gov/. This Web site allows the public to review and comment directly on this document.

FOR FURTHER INFORMATION CONTACT: Superintendent, Pipestone National Monument, 36 Reservation Avenue, Pipestone, MN 56164.

SUPPLEMENTARY INFORMATION: Pipestone National Monument offers an opportunity to explore American Indian culture and the natural resources of the tallgrass prairie. Established by Congress in 1937 to protect the historic pipestone quarries, the site is considered sacred by many American Indians. Spanning centuries of use, American Indians continue to quarry pipestone, which they carve into sacred pipes.

The GMP/EIS analyzes the impacts of a no-action and three action alternatives. The no-action alternative describes the existing conditions and trends of park management and serves as a basis for comparison in evaluating the other alternatives. The focus of alternative one is the removal of development from the heart of the national monument. Alternative two focuses on updating the existing facilities and increasing the interpretive emphasis on quarrying. Alternative three was developed to meld the most advantageous features of the other two action alternatives by removing some park operations from the national monument and updating existing facilities.

Persons wishing to comment may do so by any one of several methods. They may attend the public hearing or open houses noted above. They may mail comments directly to Pipestone National Monument. They also may comment via the Web site at http://parkplanning.nps.gov/. Finally, they may hand-deliver comments to the Pipestone National Monument in Pipestone, Minnesota.

Before including your address, telephone number, e-mail address, or other personal identifying information in your comments please be aware that your entire comment—including your personal identifying information—may be made publicly available at any time. While you can ask us in your comments to withhold your personal identifying information from public review, we cannot guarantee that we will be able to do so. We will make all submissions from organizations or businesses and from individuals identifying themselves as representatives or officials or organizations or businesses available for public inspection in their entirety.

The responsible official is Ernest Quintana, Regional Director, Midwest Region.

Dated: November 29, 2006.
David N. Given,
Acting Regional Director, Midwest Region.

[FR Doc. E7-3769 Filed 3-2-07; 8:45 am]

BILLING CODE 4312-AA-P